DEPARTMENT OF AGRICULTURE

Public Meetings of the Black Hills National Forest Advisory Board

AGENCY: Forest Service, USDA.

ACTION: Notice of meeting postponement.

SUMMARY: The November 19 meeting of Black Hills National Forest Advisory Board (NFAB) has been postponed until December 3, 2003. The proposed agenda includes advisement on last month's presentation concerning forest health and fuels and ongoing discussion of fuel-load reduction. The meeting is open, and members of the public may attend any part of the meeting.

DATES: Wednesday, December 3, 2003 from 1 to 5 p.m.

ADDRESSES: SDSU West River Ag Center, 1905 Plaza Boulevard, Rapid City, SD.

FOR FURTHER INFORMATION CONTACT: Frank Carroll, Black Hills National Forest, 25041 North Highway 16, Custer, SD 57730, (605) 673-9200.

Dated: October 22, 2003.
Brad Exton,
Black Hills National Forest Supervisor.

[FR Doc. 03-27427 Filed 10-30-03; 8:45 am]

BILLING CODE 3410-11-M